SECURITIES AND EXCHANGE COMMISSION

Submission for OMB Review; Comment Request

Upon written request, copies available from: Securities and Exchange Commission, Office of Investor Education and Advocacy, Washington, DC 20549-0213.

New Collection: Individual Investor Plain English Survey Project; SEC File No. 270-570. OMB Control No. 3235-XXXX.

Notice is hereby given that pursuant to the Paperwork Reduction Act of 1995 (44 U.S.C. 3501 et seq.) the Securities and Exchange Commission (“SEC” or “Commission”) has submitted to the Office of Management and Budget (“OMB”) a request for a new collection of information discussed below.

The SEC's Office of Investor Education and Advocacy seeks to commence a collection of information. The title of this collection is the Individual Investor Plain English Survey Project. This project will conduct focus groups and telephone surveys of individual investors in SEC registered securities. The project will seek to gauge the level of individual investor satisfaction with current and potential future SEC-mandated disclosures, to learn whether investors believe such disclosures are written in plain English and are reader-friendly, and to ask individual investors how such disclosures might be improved. The Commission will use this information in order to gain a comprehensive understanding of a range of views. The SEC intends to hire a professional survey firm to conduct the focus groups and telephone surveys. The total annual reporting and recordkeeping burden of this collection of information is estimated to be less than 1,000 burden hours.

There are no recordkeeping requirements brought about by this project. Participation in any interview will be wholly voluntary. Information collected during the study will not be kept confidential, except that the identity of a study participant, and information that would identify a participant to anyone outside the study, will not be disclosed without the participant's consent, except as provided by law.

An agency may not conduct or sponsor, and a person is not required to respond to a collection of information unless it displays a currently valid control number.

Please direct general comments regarding the above information to the following persons: (i) Desk Officer for the Securities and Exchange Commission, Office of Information and Regulatory Affairs, Office of Management and Budget, Room 10102, New Executive Office Building, Washington, DC 20503 or e-mail to: Alexander_T._Hunt@omb.eop.gov; and (ii) R. Corey Booth, Director/Chief Information Officer, Securities and Exchange Commission, C/O Shirley Martinson, 6432 General Green Way, Alexandria, Virginia 22312; or send an e-mail to: PRA_Mailbox@sec.gov. Comments must be submitted to OMB within 30 days of this notice.

Dated: January 11, 2008.
Florence E. Harmon,
Deputy Secretary.

[FR Doc. E8-652 Filed 1-15-08; 8:45 am]

BILLING CODE 8011-01-P